DEPARTMENT OF HEALTH AND HUMAN SERVICES

Health Resources and Services Administration

Charter Renewal for the Advisory Commission on Childhood Vaccines

AGENCY: Health Resources and Services Administration (HRSA), Department of Health and Human Services (HHS).

ACTION: Notice.

SUMMARY: In accordance with the Federal Advisory Committee Act, HHS is hereby giving notice that the Advisory Commission on Childhood Vaccines (ACCV) charter has been renewed. The effective date of the renewed charter is July 20, 2020.

FOR FURTHER INFORMATION CONTACT: Tamara Overby, Designated Federal Officer, Healthcare Systems Bureau, HRSA, 5600 Fishers Lane, 08N186A, Rockville, Maryland 20857; 301-443-3766; or toverby@hrsa.gov.

SUPPLEMENTARY INFORMATION: The ACCV was established by section 2119 of the Public Health Service Act (the Act) (42 U.S.C. 300aa-19), as enacted by Public Law (Pub. L.) 99-660, and as subsequently amended, and advises the Secretary of Health and Human Services (the Secretary) on issues related to the implementation of the National Vaccine Injury Compensation Program (VICP). Other activities of the ACCV include: Recommending changes in the Vaccine Injury Table at its own initiative or as the result of the filing of a petition; advising the Secretary in implementing section 2127 of the Act regarding the need for childhood vaccination products that result in fewer or no significant adverse reactions; surveying federal, state, and local programs and activities related to gathering information on injuries associated with the administration of childhood vaccines, including the adverse reaction reporting requirements of section 2125(b) of the Act; advising the Secretary on the methods of obtaining, compiling, publishing, and using credible data related to the frequency and severity of adverse reactions associated with childhood vaccines; consulting on the development or revision of Vaccine Information Statements; and recommending to the Director of the National Vaccine Program research related to vaccine injuries which should be conducted to carry out the VICP.

The renewed charter for the ACCV was approved on July 20, 2020, which will also stand as the filing date. Renewal of the ACCV charter gives authorization for the commission to operate until July 20, 2022.

A copy of the ACCV charter is available on the ACCV's website at https://www.hrsa.gov/advisory-committees/vaccines/index.html. A copy of the charter also can be obtained by accessing the FACA database that is maintained by the Committee Management Secretariat under the General Services Administration. The website address for the FACA database is http://www.facadatabase.gov/.

Maria G. Button,
Director, Executive Secretariat.

[FR Doc. 2020-15494 Filed 7-16-20; 8:45 am]

BILLING CODE 4165-15-P